FEDERAL RESERVE SYSTEM

12 CFR Part 252

[Regulation YY; Docket Nos. R-1534]

RIN 7100-AE 38

Single-Counterparty Credit Limits for Bank Holding Companies and Foreign Banking Organizations; Correction

AGENCY: Board of Governors of the Federal Reserve System.

ACTION: Final rule, correcting amendments.

SUMMARY: On August 6, 2018, the Board of Governors of the Federal Reserve System (Board) published a final rule in the Federal Register (83 FR 38460) regarding Single-Counterparty Credit Limits for Bank Holding Companies and Foreign Banking Organizations. That document included certain incorrect paragraph designations. This document corrects those typographical errors in subparts H and Q of Regulation YY.

DATES: Effective on December 13, 2018.

FOR FURTHER INFORMATION CONTACT: Benjamin McDonough, Assistant General Counsel, (202) 452-2036, Pam Nardolilli, Special Counsel, (202) 452-3289, Chris Callanan, Counsel, (202) 452-3594, or Lucy Chang, Counsel, (202) 475-6331, Legal Division, Board of Governors of the Federal Reserve System, 20th Street and Constitution Avenue NW, Washington, DC 20551. Telecommunications Device for the Deaf (TDD) users may contact (202) 263-4869.

SUPPLEMENTARY INFORMATION: The Board is correcting two errors in the final rule that was published in the Federal Register on August 6, 2018 (83 FR 38460) which caused incorrect paragraph designations in sections 252.76 and 252.174 of the final rule.

List of Subjects in 12 CFR Part 252

Administrative practice and procedure, Banks, Banking, Federal Reserve System, Holding companies, Reporting and recordkeeping requirements, Securities.

For the reasons set forth in the preamble, chapter II of title 12 of the Code of Federal Regulations is amended as follows:

PART 252—ENHANCED PRUDENTIAL STANDARDS (REGULATION YY)

1. The authority citation for part 252 continues to read as follows:

Authority: 12 U.S.C. 321-338a, 481-486, 1467a(g), 1818, 1828, 1831n, 1831o, 1831p-l, 1831w, 1835, 1844(b), 1844(c), 3904, 3906-3909, 4808, 5361, 5365, 5366, 5367, 5368, 5371.

§ 252.76 [Amended]

2. In § 252.76, redesignate paragraphs (d)(i), (d)(ii), and (d)(ii)(A) through (C) as paragraphs (d)(1), (d)(2), and (d)(2)(i) through (iii).

§ 252.174 [Amended]

3. In § 252.174 redesignate paragraphs (i)(3)(1) through (4) as paragraphs (i)(3)(i) through (iv).

By order of the Board of Governors of the Federal Reserve System, acting through the Secretary of the Board under delegated authority, December 10, 2018.
Ann Misback,
Secretary of the Board.

[FR Doc. 2018-27044 Filed 12-12-18; 8:45 am]

BILLING CODE 6210-01-P